DEPARTMENT OF ENERGY

Federal Energy Regulatory Commission

[Docket No. PR02-10-000]

Enogex, Inc.; Notice of Technical Conference

July 2, 2002.

Take notice that a technical conference will be held on Friday, July 12, 2002, at 9 am, in a room to be designated at the offices of the Federal Energy Regulatory Commission, 888 First Street, NE., Washington, DC 20426.

All interested parties and Staff are permitted to attend.

Linwood A. Watson, Jr.,
Deputy Secretary.

[FR Doc. 02-17166 Filed 7-8-02; 8:45 am]

BILLING CODE 6717-01-P